DEPARTMENT OF ENERGY

[FE Docket No. 10-111-LNG]

Sabine Pass Liquefaction, LLC; Opinion and Order Denying Request for Review Under Section 3(c) of the Natural Gas Act

AGENCY: Office of Fossil Energy, DOE.

ACTION: Notice of order.

SUMMARY: The Office of Fossil Energy (FE) of the Department of Energy (DOE) gives notice that on October 21, 2010, it issued an opinion and order pursuant to section 3 of the Natural Gas Act (NGA), that Sabine Pass Liquefaction, LLC's (Sabine Pass) pending application of September 7, 2010, in DOE/FE Docket No. 10-111 LNG for authorization to export liquefied natural gas (LNG) to non free trade agreement countries will be reviewed under section 3(a) of the NGA, and Sabine Pass' request for review under section 3(c) of the NGA is denied.

This Order is available for inspection and copying in the Office of Oil and Gas Global Security and Supply docket room, 3E-042, Forrestal Building, 1000 Independence Avenue, SW., Washington, DC 20585. The docket room is open between the hours of 8 a.m. and 4:30 p.m., Monday through Friday, except Federal holidays. The Order is also available electronically at the following DOE/FE Web address: http://www.fe.doe.gov/programs/gasregulation/index.html.

Issued in Washington, DC, on October 26, 2010.
John A. Anderson,
Manager, Natural Gas Regulatory Activities, Office of Oil and Gas Global Security and Supply, Office of Fossil Energy.

[FR Doc. 2010-27497 Filed 10-29-10; 8:45 am]

BILLING CODE 6450-01-P